DEPARTMENT OF THE INTERIOR

Bureau of Land Management

Notice of Public Meeting: Resource Advisory Council to the Lower Snake River District, Bureau of Land Management, U. S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Lower Snake River District Resource Advisory Council (RAC), will meet as indicated below.

DATES: The meeting will be held August 24, 2004, beginning 9:30 a.m. at the Tribal Headquarters of Shoshone-Paiute Native American Indian Tribe, located on the Duck Valley Reservation, Owyhee, Nevada 83705. Public comment periods will be held after topics on the agenda. The meeting will adjourn at 3:30 p.m.

FOR FURTHER INFORMATION CONTACT: MJ Byrne, Public Affairs Officer and RAC Coordinator, Lower Snake River District, 3948 Development Ave., Boise, ID 83705, Telephone (208) 384-3393.

SUPPLEMENTARY INFORMATION: The 15-member Council advises the Secretary of the Interior, through the Bureau of Land Management, on a variety of planning and management issues associated with public land management in southwestern Idaho. At this meeting, the following actions will occur/topics will be discussed:

• Overview of Natural Resource Issues on the Duck Valley Reservation;

• Review of RAC and BLM co-sponsored Community Discussion on Western Juniper Management—Workshop held on July 22, 2004;

• Report on Off-Highway Vehicle Route Designation efforts in the Lower Snake River District;

• Update on BLM-Idaho Organizational Refinement;

• Update: Implementation of LEPA Candidate Conservation Agreement;

• Update on Sage Grouse Habitat Restoration efforts;

• Hot Topics—Snail Lawsuit; Overview on Information Memorandum on Implementation of Idaho Rangeland Standards and Guidelines, and;

• Update on status of District's Fire and Fuels Management Plan, and Normal Year Fire Rehab. Plans;

• Subcommittee Reports

◦ Off-Highway Vehicles (OHV) and Transportation Management, Resource Management Plans (RAC assistance requested with finalizing draft alternatives), Sage Grouse Habitat Management, and, River and Recreation Management;

• Three Field Office Managers and District Fire Manager provide updates on current issues and planned activities in their Field Offices and the District.

Agenda items may change due to changing circumstances. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice.

Dated: July 26, 2004.
Glen M. Secrist,
District Manager.

[FR Doc. 04-17481 Filed 7-30-04; 8:45 am]

BILLING CODE 4310-GG-P